DEPARTMENT OF LABOR

Office of the Secretary

Submission for OMB Emergency Review: Comment Request

November 12, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by November 23, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employment and Training Administration.

Title of Collection: Jobs for America's Job Seekers Challenge.

OMB Control Number: Pending.

Frequency of Collection: This is a one-time data collection.

Affected Public: State Workforce Agencies, businesses, non-profit organizations, other State government entities, workforce investment boards, One Stop Career Center staff, and the public.

Estimated Time per Respondent: A maximum of 10 minutes per Phase One respondent, of whom 1,000 are estimated to respond. For Phase Two, a maximum of 10,000 respondents are estimated (crowdsourcing portion) at 10 minutes total for an estimated rating of two tools each.

Total Estimated Number of Respondents: A maximum of 11,000 respondents are expected.

Total Estimated Annualized Burden Hours: 1,833 hours.

Total Estimated Annualized Cost Burden: $0.

Description:

The U.S. Department of Labor's (DOL) Employment and Training Administration (ETA), in conjunction with the White House and IdeaScale, is launching the Jobs for America's Job Seekers Challenge. Using an online platform designed by IdeaScale, the Challenge will allow toolmakers and developers to present their free online job tools to workforce development experts and jobseekers for discussion, rating, and voting. The tools that receive the most votes will be shared broadly with the workforce investment system and jobseekers, and listed on government Web sites like http://www.CareerOneStop.org, http://www.Workforce3One.org, and http://www.DOLETA.gov. This is not an opportunity to apply for government funding and ETA will not make any funds available to any party pursuant to this announcement.

The Challenge will consist of three phases. Phase 1 will run from November 30, 2009 to December 18, 2009. In this phase, toolmakers and developers will submit information on their free online job search and job matching tools. These tools must be free to the job seeker, but can be licensed by the workforce system at the State or local level provided the companies offer a short-term demo or other platform that allows the tools to be reviewed free of charge. Submissions will be accepted from businesses, nonprofits organizations, entrepreneurs, and State and local workforce agencies. The tools will be organized into one or more of the following categories:

• General job boards, listing sites, and aggregators

• Niche job boards

• Career advancement tools

• Web based career exploration sites

• Web 2.0/social media sites specializing in job searches or job postings

• Other job tools

Phase 2 will run from January 4 to January 15, 2010. During this phase, workforce development experts and job seekers will review and vote on the submitted job search and matching tools. Reviewers will be encouraged to consider a tool's usability based on how effective the tool is in providing accurate results, how efficient it is in completing job search and matching tasks in a reasonable amount of time, and the level of satisfaction the user felt.

Phase 3 will begin on January 18, 2010. In this final phase, DOL, ETA, and the White House will communicate the top tools in each category with the entire workforce development community and job seekers through a variety of mediums, including:

(1) Posting an announcement of the top ranking tools on key Web sites including;

a. DOL.gov

b. Doleta.gov

c. White House OSTP blog

d. Workforce3one.org

e. Other sites

(2) Highlighting free tools on ETA's http://www.CareerOneStop.org portal, which already houses a variety of tools for the workforce system;

(3) Hosting Webinars featuring the top ranking tools on Workforce3one.org;

(4) Utilizing other communication outlets such as national associations and Intergovernmental organizations like the National Association of State Workforce Agencies, the National Association of Workforce Boards, the National Governor's Association, the National Association of Counties, and the Association of Community Colleges.

As a result of the Challenge, the workforce development system will quickly boost its capacity to meet the job information needs of the significantly increased number of customers requiring service in the current economic recovery effort.

Why Are We Requesting Emergency Processing?

In today's tight employment market that has experienced a 10.2 percent unemployment rate that is the highest in 26 years, the publicly funded workforce investment system has a major responsibility to maximize unemployed workers' opportunities for rapid reemployment by quickly connecting them to the full scope of available jobs. We know the workforce system is working hard to connect workforce system customers to the best job search resources available. However, as a result of technological innovations, new job search tools have been launched and new tools are emerging daily that help job seekers find jobs and target their search to the most relevant employment opportunities.

Expedited or Emergency approval of this data collection will enable the Department of Labor (DOL), Employment and Training Administration (ETA), and the White House to respond aggressively to the record unemployment rates. Failure to start the Challenge and do the collection by November 30, 2009 would waste federal Recovery Act and State resources. Many States and local areas are individually searching for job matching and job search solutions to meet the significantly increased number of job seekers in need of assistance in One Stop Career Centers nationwide as a result of the historic downturn in the nation's economy.

Darrin A. King,
Departmental Clearance Officer.

[FR Doc. E9-27697 Filed 11-17-09; 8:45 am]

BILLING CODE 4510-FN-P